DEPARTMENT OF THE INTERIOR

Bureau of Land Management

[LLMT926000-10-L19100000-BJ0000-LRCME9R04643]

Notice of Filing of Plats of Survey; Montana

AGENCY: Bureau of Land Management, Interior.

ACTION: Notice of filing of plats of survey.

SUMMARY: The Bureau of Land Management (BLM) will file the plat of survey of the lands described below in the BLM Montana State Office, Billings, Montana, September 30, 2010.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Bureau of Indian Affairs, Rocky Mountain Region, Billings, Montana, and was necessary to determine individual and Tribal trust lands.

The lands we surveyed are:

Principal Meridian, Montana

T. 26 N., R. 46 E.

The plat, in 1 sheet, representing the dependent resurvey of a portion of the west boundary, a portion of the subdivisional lines, the adjusted original meanders of the former left bank of the Missouri River, downstream, through sections 7 and 18, a portion of the subdivision of sections 7 and 18, a certain division of accretion line and the subdivision of section 7, the survey of the meanders of the present left bank of the Missouri River and informative traverse, downstream, through sections 7 and 18, the limits of erosion and informative traverse, downstream through sections 7 and 18 and certain division of accretion lines, Township 26 North, Range 46 East, Principal Meridian, Montana, was accepted August 19, 2010.

We will place a copy of the plat, in 1 sheet, and related field notes we described in the open files. They will be available to the public as a matter of information. If the BLM receives a protest against this survey, as shown on this plat, in 1 sheet, prior to the date of the official filing, we will stay the filing pending our consideration of the protest. We will not officially file this plat, in 1 sheet, until the day after we have accepted or dismissed all protests and they have become final, including decisions or appeals.

Authority: 43 U.S.C. Chap. 3.

Dated: August 23, 2010.
Steven G. Schey,
Acting Chief Cadastral Surveyor, Division of Resources.

[FR Doc. 2010-21639 Filed 8-30-10; 8:45 am]

BILLING CODE 4310-DN-P